DEPARTMENT OF JUSTICE

Drug Enforcement Administration

[Docket No. 02-37]

James Greene Hamilton, M.D., Revocation of Registration

On February 27, 2002, the Deputy Assistant Administrator, Office of Diversion Control, Drug Enforcement Administration (DEA), issued an Order to Show Cause to James Greene Hamilton, M.D. (Respondent), proposing to revoke his DEA Certificate of Registration, BH5401550, and deny any pending applications for renewal or modification of that registration under 21 U.S.C. 823(f) for reason that such registration would be inconsistent with the public interest. The Order to Show Cause further proposed the revocation of the Respondent's DEA registration pursuant to 21 U.S.C. 824(a)(3) based on the suspension of his North Carolina medical license.

By letter dated April 22, 2002, along with supporting documents, the Respondent acting pro se requested a hearing in this matter. On May 17, 2002, the Government filed Government's Request for Stay of Proceedings and Motion for Summary Judgment (Motion). On May 21, 2002, the presiding Administrative Law Judge Gail A. Randall (Judge Randall) issued an Order Granting Stay (Order) in which the Government's motion for stay of the proceedings was granted. The Order further provided the Respondent until June 5, 2002, to respond to the Government's Motion. However, the Respondent did not file a response.

On July 9, 2002, Judge Randall issued her Opinion and Recommended Ruling of the Administrative Law Judge (Opinion and Recommended Ruling) in which she granted the Government's motion for summary disposition and found that the Respondent lacks authorization to handle controlled substances in the State of North Carolina. In granting the Government's motion, Judge Randall further recommended that the Respondent's DEA registration be revoked. Neither party filed exceptions to her Opinion and Recommended Decision, and on August 8, 2002, Judge Randall transmitted the record of these proceedings to the Office of the Deputy Administrator.

The Deputy Administrator finds that the Respondent currently possesses DEA Certificate of Registration BH5401550, issued to him at an address in Durham, North Carolina. The Respondent also previously held medical license number 29583, issued to him on May 25, 1996 by the North Carolina Medical Board (Board). The Deputy Administrator further finds that by Order of the Board dated November 21, 2000, the Respondent's medical license was summarily suspended. On February 21, 2001, the Respondent entered into a Consent Order with the Board whereby agreed to voluntarily surrender his medical license.

There is no evidence before the Deputy Administrator that the Respondent's medical license has been reinstated. In her Opinion and Recommended Ruling, Judge Randall found that the Respondent lacks state authorization to handle controlled substances. Therefore, the Deputy Administrator finds that the Respondent is not currently authorized to practice medicine in the State of North Carolina. As a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Muttaiya Darmarajeh, M.D., 66 FR 52936 (2001); Dominick A. Ricci, M.D. 58 FR 51104 (1993); Bobby Watts, M.D., 63 FR 11919 (1988).

Here, it is clear that Respondent is not licensed to handle controlled substances in North Carolina. Since Respondent lacks such authority, he is not entitled to a DEA registration in that state.

In light of the above, Judge Randall properly granted the Government's Motion for Summary Disposition. The parties do not dispute the fact that Respondent is currently without authorization to handle controlled substances in North Carolina. Therefore, it is well-settled that when no question of material fact is involved, a plenary, adversary administrative proceeding involving evidence and cross-examination of witnesses is not obligatory. See Gilbert Ross, M.D., 61 FR 8664 (1996); Philip E. Kirk, M.D., 48 FR 32,887 (1983), aff'd sub nom Kirk v. Mullen, 749 F.2d 297 (6th Cir. 1984); NLRB v. International Association of Bridge, Structural and Ornamental Ironworkers, AFL-CIO, 549 F.2d 634 (9th Cir. 1977).

Accordingly, the Deputy Administrator of the Drug Enforcement Administration, pursuant to the authority vested in him by 21 U.S.C. 823 and 824 and 28 CFR 0.100(b) and 0.104, hereby orders that DEA Certification of Registration BH5401550, issued to James Greene Hamilton, M.D., be, and it hereby is, revoked. The Deputy Administrator further orders that any pending applications for renewal of such registration be, and they hereby are, denied. This order is effective October 25, 2002.

Dated: September 18, 2002.
John B. Brown III,
Deputy Administrator.

[FR Doc. 02-24274 Filed 9-24-02; 8:45 am]

BILLING CODE 4410-09-M